DEPARTMENT OF LABOR

Employment and Training Administration

[TA-W-65,139]

Weather Shield Manufacturing, Inc., Custom Products Division, Medford, WI; Notice of Negative Determination Regarding Application for Reconsideration

By application postmarked May 15, 2009, a petitioner requested administrative reconsideration of the Department's negative determination regarding eligibility to apply for Trade Adjustment Assistance (TAA), applicable to workers and former workers of the subject firm. The denial notice was signed on April 30, 2009 and published in the Federal Register on May 18, 2009 (74 FR 23214).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination which was based on the finding that imports of windows and doors did not contribute importantly to worker separations at the subject plant and there was no shift of production to a foreign country in the relevant period. The “contributed importantly” test is generally demonstrated through a survey of the workers' firm's declining domestic customers. The Department conducted a survey of the subject firm's major declining customers regarding their purchases of windows and doors in 2007, 2008 and January through February 2009. The survey revealed no imports during the relevant period. The subject firm did not import windows and doors into the United States during the relevant period.

In the request for reconsideration, the petitioner stated that in order to reveal the import impact, the Department should change the relevant period and include events occurring in 2006.

When assessing eligibility for TAA, the Department exclusively considers import impact during the relevant time period (one year prior to the date of the petition). Therefore, events occurring in 2006 are outside of this period and are not relevant in this investigation.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 12th day of June, 2009.
Elliott S. Kushner,
Certifying Officer, Division of Trade Adjustment Assistance.

[FR Doc. E9-14766 Filed 6-23-09; 8:45 am]

BILLING CODE 4510-FN-P